INTERNATIONAL TRADE COMMISSION

Sunshine Act Meeting

AGENCY HOLDING THE MEETING: United States International Trade Commission

TIME AND DATE: February 9, 2000 at 2:00 p.m.

PLACE: Room 101, 500 E Street S.W. Washington, DC 20436 Telephone: (202) 205-2000

STATUS: Open to the public

MATTERS TO BE CONSIDERED: 1. Agenda for future meeting: none

2. Minutes

3. Ratification List

4. Inv. No. 731-TA-459 (Review)(Polyethylene Terephthalate (PET) Film from Korea)—briefing and vote. (The Commission will transmit its determination to the Secretary of Commerce on February 16, 2000.)

5. Inv. Nos. 731-TA-465-466 and 468 (Review)(Sodium Thiosulfate from China, Germany, and the United Kingdom)—briefing and vote. (The Commission will transmit its determination to the Secretary of Commerce on February 17, 2000.)

6. Inv. Nos. 731-TA-376 and 563-564 (Review)(Stainless Steel Butt-Weld Pipe Fittings from Japan, Korea, and Taiwan)—briefing and vote. (The Commission will transmit its determination to the Secretary of Commerce on February 22, 2000.)

7. Outstanding action jackets: none

In accordance with Commission policy, subject matter listed above, not disposed of at the scheduled meeting, may be carried over to the agenda of the following meeting.

By order of the Commission.
Issued: January 31, 2000.
Donna R. Koehnke,
Secretary.

[FR Doc. 00-02489 Filed 2-1-00; 12:25 pm]

BILLING CODE 7020-02-M